DEPARTMENT OF LABOR

Employment and Training Administration

[TA-W-63,640]

3M Touch Systems, a Subsidiary of 3M Electro & Communication Division, Milwaukee, WI; Notice of Negative Determination on Reconsideration

On August 1, 2008, the Department issued an Affirmative Determination Regarding Application for Reconsideration for the workers and former workers of the subject firm. The notice was published in the Federal Register on August 12, 2008 (73 FR 46920).

The initial investigation resulted in a negative determination based on the finding that imports of touch screens for mobile phones did not contribute importantly to worker separations at the subject firm and no shift of production to a foreign source occurred.

In the request for reconsideration the company official provided an additional list of customers who purchased touch screens from the subject firm.

On reconsideration the Department of Labor surveyed these customers regarding their purchases of touch screens (including like or directly competitive products) during 2006, 2007, and January through June 2008 over the corresponding 2007 period. The survey revealed no imports of touch screens during the relevant period.

The petitioner also stated that workers of the subject firm were previously certified eligible for TAA. The petitioner further states that if the subject firm “did not attempt to re-position the business and instead, close entirely in 2007, all the employees would have been eligible for TAA.” The petitioner seems to allege that because workers of the subject firm were previously certified eligible for TAA, the workers of the subject firm should be granted another TAA certification.

When assessing eligibility for TAA, the Department exclusively considers import impact during the relevant time period (from one year prior to the date of the petition). Therefore, events occurring before 2007 are outside of the relevant period and are not relevant in this investigation.

Conclusion

After reconsideration, I affirm the original notice of negative determination of eligibility to apply for worker adjustment assistance for workers and former workers of 3M Touch Systems, a subsidiary of 3M, Electro & Communications Division, Milwaukee, Wisconsin.

Signed at Washington, DC, this 23rd day of September, 2008.
Elliott S. Kushner,
Certifying Officer, Division of Trade Adjustment Assistance.

[FR Doc. E8-23302 Filed 10-2-08; 8:45 am]

BILLING CODE 4510-FN-P